FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, without revision, the Domestic Branch Application (FR 4001; OMB No. 7100-0097).

FOR FURTHER INFORMATION CONTACT: Federal Reserve Board Clearance Officer—Nuha Elmaghrabi—Office of the Chief Data Officer, Board of Governors of the Federal Reserve System, nuha.elmaghrabi@frb.gov, (202) 452-3884.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements (which contain more detailed information about the information collections and burden estimates than this notice), and approved collection of information instrument(s) are available at https://www.reginfo.gov/public/do/PRAMain. These documents are also available on the Federal Reserve Board's public website at https://www.federalreserve.gov/apps/reportingforms/review or may be requested from the agency clearance officer, whose name appears above. On the page displayed at the link above, you can find the supporting information by referencing the collection identifier, FR 4001.

Final Approval Under OMB Delegated Authority of the Extension for Three Years, Without Revision, of the Following Information Collection

Collection title: Domestic Branch Application.

Collection identifier: FR 4001.

OMB control number: 7100-0097.

General description of collection: The Federal Reserve Act and the Board's Regulation H—Membership of State Banking Institutions in the Federal Reserve System (12 CFR part 208) require a state member bank to seek prior approval of the Federal Reserve System before establishing or acquiring a domestic branch. Such requests for approval must be filed as applications at the appropriate Reserve Bank for the state member bank. Due to the limited information that a state member bank generally has to provide for branch proposals, there is no formal reporting form for a domestic branch application. A state member bank is required to notify the Federal Reserve by letter of its intent to establish one or more new branches and provide evidence that public notice of the proposed branch(es) has been published by the state member bank in the appropriate newspaper(s). The applicant may include with its letter a copy of the Conference of State Bank Supervisors Uniform Interstate Application/Notice form. The Federal Reserve uses the information provided by the applicant to fulfill its statutory obligation to review branch applications before acting on the proposals and to otherwise supervise state member banks.

Frequency: Event-generated.

Respondents: State member banks.

Total estimated number of respondents: 179.

Total estimated annual burden hours: 425.

Current actions: On October 2, 2024, the Board published a notice in the Federal Register (89 FR 80243) requesting public comment for 60 days on the extension, without revision, of the FR 4001. The comment period for this notice expired on December 2, 2024. The Board did not receive any comments.

Board of Governors of the Federal Reserve System, February 4, 2025.
Benjamin W. McDonough,
Deputy Secretary and Ombuds of the Board.

[FR Doc. 2025-02362 Filed 2-6-25; 8:45 am]

BILLING CODE 6210-01-P